DEPARTMENT OF ENERGY

Federal Energy Regulatory Commission

[Docket Nos. CP01-4-000, CP01-5-000, CP01-8-000]

Maritimes & Northeast Pipeline L.L.C., et al.; Notice of Intent To Prepare an Environmental Impact Statement for the Proposed Maritimes Phase III/Hubline Project and Request for Comments on Environmental Issues

November 20, 2000.

The staff of the Federal Energy Regulatory Commission (FERC or Commission) will prepare an environmental impact statement (EIS) that will discuss the environmental impacts of the Maritimes Phase III/HubLine Project involving construction and operation of facilities by Maritimes & Northeast Pipeline, L.L.C. (Maritimes) in Essex and Middlesex Counties, Massachusetts and Algoniquin Gas Transmission Company (Algonquin) in primarily offshore Essex, Suffolk, Plymouth, and Norfolk Counties, Massachusetts.¹ There would be minor onshore facilities in Suffolk and Norfolk Counties. The project facilities would consist of about 25 miles of 30- and 24-inch-diameter onshore pipeline and about 35 miles of 24- and 16-inch-diameter offshore pipeline. This EIS will be used by the Commission in its decision-making process to determine whether the project is in the public convenience and necessity.

¹ Maritimes' and Algonquin's applications were filed with the Commission under Section 7 of the Natural Gas Act and Part 157 of the Commission's regulations.

If you are a landowner receiving this notice, you may be contacted by a pipeline company representative about the acquisition of an easement to construct, operate, and maintain the proposed facilities. The pipeline company would seek to negotiate a mutually acceptable agreement. However, if the project is approved by the Commission, that approval conveys with it the right to eminent domain. Therefore, if easement negotiations fail to produce an agreement, the pipeline company could initiate condemnation proceedings in accordance with state law.

A fact sheet prepared by the FERC entitled “An Interstate Natural Gas Facility On My Land? What Do I Need To Know?” was attached to the project notice Maritimes and Algonquin provided to landowners. This fact sheet addresses a number of typically asked questions, including the use of eminent domain and how to participate in the Commission's proceedings. It is available for viewing on the FERC Internet website (www.ferc.fed.us).

Summary of the Proposed Project

Maritimes wants to extend its mainline system from a point near Methuen, Massachusetts, to an interconnection with Algonquin's proposed HubLine facilities in Beverly, Massachusetts. Maritimes' proposed Phase III facilities would have an initial capacity to deliver approximately 360,000 million British thermal units per day of natural gas. Algonquin wants to interconnect with the proposed Maritimes system in Beverly, Massachusetts, by constructing the proposed HubLine facilities from Beverly to an interconnect with its existing I-9 pipeline system at the Sithe Fore River Power Plant in Weymouth, Massachusetts. Maritimes seeks authority to construct and operate:

• Approximately 23.8 miles of 30-inch-daimeter pipeline and 1.0 mile of 24-inch-diameter pipeline; and

• Appurtenant facilities to include three mainline valves, one tap valve, two cathodic protection ground beds, and two meter stations.

Algonquin seeks authority to construct and operate:

• Approximately 29.4 miles of 24-inch-diameter offshore mainline pipeline;

• Approximately 5.4 miles of 16-inch-diameter offshore lateral pipeline to the existing Massachusetts Water Resources Authority (MWRA) Waste Water Treatment facility on Deer Island; and

• One new meter station on Deer Island, and a block valve and receiver and regulator facilities near the interconnect with the existing I-9 pipeline.

Texas Eastern Transmission Corporation (Texas Eastern) proposes to acquire capacity on the HubLine facilities. Texas Eastern does not propose any related facilities.

The general location of the project facilities is shown in appendix 1.² If you are interested in obtaining detailed maps of a specific portion of the project, send in your request using the form in appendix 3.

² The appendices references in this notice are not being printed in the Federal Register. Copies are available on the Commission's website at the “RIMS” link or from the Commission's Public Reference and Files Maintenance Branch, 688 First Street, NE., Washington, DC 20426, or call (202) 208-1371. For instructions on connecting to RIMS refer to the last page of this notice. Copies of the appendices were sent to all those receiving this notice in the mail.

Land Requirements for Construction

Construction of the proposed onshore facilities would require about 343 acres of land. Following construction, about 0.6 acre would be maintained as new aboveground facility sites. The remaining acres of land would be restored and generally allowed to revert to its former use. Construction of the proposed offshore facilities would disturb about 76.3 areas of sea floor.

The EIS Process

The National Environmental Policy Act (NEPA) requires the Commission to take into account the environmental impacts that could result from an action whenever it considers the issuance of a Certificate of Public Convenience and Necessity. NEPA also requires us,³ to discover and address concerns the public may have about proposals. We call this “scoping”. The main goal of the scoping process is to focus the analysis in the EIS on the important environmental issues. By this Notice of Intent, the Commission requests public comments on the scope of the issues it will address in the EIS. All comments received are considered during the preparation of the EIS. State and local government representatives are encouraged to notify their constituents of this proposed action and encourage them to comment on their areas of concern.

³ “We”, “us”, and “our” refer to the environmental staff of the Office of Energy Projects (OEP).

The EIS will discuss impacts that could occur as a result of the construction and operation of the proposed project under these general headings:

• Geology and soils;

¹ Maritimes' and Algonquin's applications were filed with the Commission under Section 7 of the Natural Gas Act and Part 157 of the Commission's regulations.

• Water resources, fisheries, and wetlands

• Vegetation and wildlife

• Endangered and threatened species

• Public safety;

• Land use;

• Cultural resources;

• Air quality and noise;

• Hazardous waste.

We will also evaluate possible alternatives to the proposed project or portions of the project, and make recommendations on how to lessen or avoid impacts on the various resource areas.

Our independent analysis of the issues will be in the EIS. A Draft EIS will be published and mailed to Federal, state, and local agencies, public interest groups, interested individuals, affected landowners, newspapers, libraries, and the Commission's official service list for this proceeding. A comment period period will be allotted for review of the Draft EIS. We will consider all comments we receive on the Draft EIS and publish a Final EIS including our recommendations to the Commission.

To ensure your comments are considered, please carefully follow the instructions in the public participation section in this NOI beginning on page 5.

Currently Identified Environmental Issues

We have already identified several issues that we think deserve attention based on a preliminary review of the proposed facilities and the environmental information provided by Maritimes and Algonquin, and filings in response to the notice of the applications. This preliminary list of issues may be changed based on your comments and our analysis.

• Eleven federally listed endangered or threatened species may occur in the proposed project area.

• A number of Massachusetts certified vernal pools, and estimated habitat for rare wetlands wildlife, would be crossed by the Phase III Pipeline.

• Up to 5.5 miles of public or private recreation, conservation, or open space lands would be crossed by the Phase III Pipeline.

• The Phase III Pipeline would cross or be within the watershed of Emerson Brook Reservoir, a public water supply.

• A total of 0.7 linear miles of proposed facilities would be within residential areas.

• The Phase III Pipeline would require three major open water crossings greater than 100 feet in width (Merrimack River, Waters River/Danvers River, and Danvers River/Beverly Harbor).

• The HubLine Pipeline would cross or be in proximity to several areas of potential concern, including the South Essex Ocean Sanctuary, the Boston Harbor Islands National Park area, commercial and recreational fishing areas, diving areas, special anchorage areas, shipping lanes, commuter ferry and water taxi routes, and existing utilities.

Public Participation

You can make a difference by providing us with your specific comments or concerns about the project. By becoming a commentor, your concerns will be addressed in the EIS and considered by the Commission. You should focus on the potential environmental effects of the proposal, alternatives to the proposal (including alternative routes), and measures to avoid or lessen environmental impact. The more specific your comments, the more useful they will be. Please carefully follow these instructions to ensure that your comments are received in time and properly recorded:

• Send an original and two copies of your letter to: David P. Boergers, Secretary, Federal Energy Regulatory Commission, 888 First St., NE., Room 1A, Washington, DC 20426

• Label one copy of the comments for the attention of Gas Group 2.

• Reference Docket Nos. CP01-4-000 and CP01-5-000.

• Mail your comments so that they will be received in Washington, DC on or before December 22, 2000.

Comments may also be filed electronically via the Internet in lieu of paper. See 18 CFR 385.2001(a)(1)(iii) and the instructions on the Commission's web site at http://www.ferc.fed.us/efi/doorbell.htm under the link to the User's Guide. Before you can file comments you will need to create an account which can be created by clicking on “Login to File” and then “New User Account.”

In addition to or in lieu of sending written comments, we invite you to attend the public scoping meetings the FERC will conduct in the project area. The public scoping meetings will be held jointly with public hearings conducted by the Massachusetts Energy Facilities Siting Board. The locations and time for the meetings are listed below:

Date, Time and Location

December 4, 2000, 7:30 p.m.—Danvers Senior Center, 25 Stone Street, Danvers, Massachusetts

December 6, 2000, 7:00 p.m.—Fuller Middle School, 143 South Main Street, Middleton, Massachusetts

The public meetings are designed to provide you with another opportunity to offer your comments on the proposed Maritimes Phase III/HubLine Project. Interested groups and individuals are encouraged to attend the meetings and to present comments on the environmental issues they believe should be addressed in the EIS. A transcript of the meetings will be made so that your comments will be accurately recorded.

In addition, an INTERAGENCY MEETING will be held on Tuesday, December 5, 2000, at the Massachusetts Executive Office of Environmental Affairs, 251 Causeway Street, 8th floor, Coastal Zone Management Conference Room, Boston at 9:00 a.m. While the public may attend, the primary purpose of the agency meeting is for the FERC to receive scoping comments from federal, state, and local government agencies.

Becoming an Intervenor

In addition to involvement in the EIS scoping process, you may want to become an official party to the proceeding known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2). Only intervenors have the right to seek rehearing of the Commission's decision.

Affected landowners and parties with environmental concerns may be granted intervenor status upon showing good cause by stating that they have a clear and direct interest in this proceeding which would not be adequately represented by any other parties. You do not need intervenor status to have your environmental comments considered.

Additional information about the proposed project is available from the Commission's Office of External Affairs at (202) 208-0004 or on the FERC website (www.ferc.fed.us) using the “RIMS” link to information in these docket numbers. Click on the “RIMS” link, select “Docket #” from the RIMS Menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS menu, and folow the instructions. For assistance with access to CIPS, the CIPS helpline can be reached at (202) 208-2474.

David P. Boergers,
Secretary.

[FR Doc. 00-30069 Filed 11-24-00; 8:45 am]

BILLING CODE 6717-01-M